TENNESSEE VALLEY AUTHORITY

Final Environmental Impact Statement, Single Nuclear Unit at the Bellefonte Plant Site, Jackson County, AL

AGENCY: Tennessee Valley Authority (TVA).

ACTION: Issuance of Record of Decision.

SUMMARY: This notice is provided in accordance with the Council on Environmental Quality's regulations (40 CFR 1500 to 1508) and TVA's procedures implementing the National Environmental Policy Act (NEPA). On August 18, 2011, the TVA Board of Directors approved the recommendation to complete and operate Bellefonte Nuclear Plant Unit 1. A notice of availability (NOA) of the Final Supplemental Environmental Impact Statement for a Single Nuclear Unit at the Bellefonte Plant Site (hereafter referred to as Bellefonte FSEIS) was published in the Federal Register on May 21, 2010. On August 20, 2010, the TVA Board approved the expenditure of $248 million for additional engineering, design, and licensing activities, as well as the procurement of long lead-time components for the partially complete Bellefonte Unit 1. The ROD documenting this decision was published on September 9, 2010 (75 FR 54961). Bellefonte Unit 1 is a 1,260-megawatt (MW) Babcock and Wilcox-designed pressurized light water reactor. This interim decision was made in order to maintain Unit 1 as a viable alternative to meet the projected need for base load generation on the TVA system in 2018-2020.

FOR FURTHER INFORMATION CONTACT: Ruth Horton, Senior NEPA Specialist, Environmental Permits and Compliance, Tennessee Valley Authority, 400 West Summit Hill Drive, WT 11D, Knoxville, Tennessee 37902-1499; telephone: 865-632-3719; e-mail: blnp@tva.gov or Zackary Rad, Bellefonte Unit 1 Licensing Manager, Nuclear Generation Development and Construction, Tennessee Valley Authority, P.O. Box 2000, OSB 1A-BLN, Hollywood, Alabama 35752; telephone: 256-574-8265; e-mail: zwrad@tva.gov.

SUPPLEMENTARY INFORMATION: The September 2010 Bellefonte ROD provides information about this action, and reference should be made to that notice for more details, including information about the need for base load capacity, alternatives considered by TVA, the history of the Bellefonte project, environmental consequences, and other background information.

With almost 37,000 MW of net dependable summer generating capacity, TVA operates the nation's largest public power system, producing 4 percent of all electricity in the nation. TVA provides electricity to most of Tennessee and parts of Virginia, North Carolina, Georgia, Alabama, Mississippi, and Kentucky. It serves about 9 million people in this seven-state region through 155 independent power distributors and 56 directly served large industries and Federal facilities. The TVA Act requires the TVA power system to be self-supporting and to be operated on a non-profit basis and directs TVA to sell power at rates as low as are feasible. Most of TVA's power is supplied by three nuclear plants, 11 coal-fired plants, 12 gas-fired plants, 29 hydroelectric dams, and a pumped-storage facility and through power purchase agreements from a variety of energy sources including, but not limited to, wind, solar, natural and methane gas, hydroelectric, and lignite coal. TVA also purchases renewable energy from small producers in its Generation Partners Program. TVA transmits electricity from these facilities over almost 16,000 miles of transmission lines.

The Bellefonte FSEIS supplements and updates the original TVA Final Environmental Statement for Bellefonte Nuclear Plant Units 1 and 2 (May 1974); the TVA Final Environmental Impact Statement for the Bellefonte Conversion Project (October 1997); the U.S. Department of Energy's Final Environmental Impact Statement for the Production of Tritium in a Commercial Light Water Reactor (March 1999), which TVA adopted; and the TVA Bellefonte Nuclear Plant Units 3 and 4, Combined License Application Part 3, Environmental Report, Revision 1 (October 2008). Where pertinent, the Bellefonte FSEIS incorporates by reference, utilizes, tiers from, or updates information from this substantial environmental record.

The Bellefonte FSEIS also tiered from and incorporated by reference two TVA programmatic reviews, Energy Vision 2020 Integrated Resource Plan Final Programmatic Environmental Impact Statement (December 1995) and Reservoir Operations Study Final Programmatic Environmental Impact Statement (May 2004). In March 2011, TVA issued a new Integrated Resource Plan (IRP) and IRP Final Environmental Impact Statement (FEIS) for meeting future demand on the TVA power system over the next 20 years. The need for power analysis in the Bellefonte FSEIS is compatible with, and is updated by, the analysis in the 2011 IRP FEIS.

TVA's 2011 IRP sets forth a planning direction to guide TVA in making future energy resource decisions. This direction includes, among other actions, significant increased investment in energy efficiency and demand response programs, the idling of existing coal units in an amount ranging from 2,400 to 4,700 MWs, and the addition of 1,150 to 3,650 MWs of nuclear capacity. Completion and operation of the 1,260-MW Bellefonte Unit 1 was one of the resource options analyzed in the 2011 IRP and is consistent with the planning direction approved by the TVA Board.

Analyses show that even with substantial energy replacement through conservation measures, TVA must still add new base load generation to balance resources with the projected load requirements. Neither coal-fired nor natural gas-fired power was found to be environmentally preferable to nuclear power, and renewable energy sources were not found sufficient to meet power needs in the required time frame. Completing Bellefonte Unit 1 also would provide TVA more flexibility to idle existing coal plants. These conclusions are confirmed in TVA's new IRP.

The decision to complete Bellefonte Unit 1 precludes further consideration of any of the options for converting the existing facilities at the Bellefonte site to a coal- or natural gas-fired plant that were analyzed in the 1997 FEIS for the Bellefonte Conversion Project.

Public Involvement

TVA published a notice of intent to prepare a supplemental environmental impact statement (SEIS) in the Federal Register on August 10, 2009. The NOA for the draft SEIS (DSEIS) was published in the Federal Register by the U.S. Environmental Protection Agency (USEPA) on November 13, 2009. TVA accepted comments on the DSEIS until December 28, 2009. Approximately 50 people attended a public meeting on December 8, 2009, in Scottsboro, Alabama. Comments both for and against nuclear power generation were received from 35 individuals and four Federal and state agencies. After considering and responding to all substantive comments, TVA completed and issued the Bellefonte FSEIS, which identifies Alternative B, Completion and Operation of Bellefonte Unit 1, as TVA's Preferred Alternative. The NOA of the Bellefonte FSEIS was published in the Federal Register on May 21, 2010.

TVA also invited comments on the Bellefonte FSEIS during a 30-day period from May 21 through June 21, 2010. Comments were received from 11 persons or entities, including the USEPA. No new issues were raised, and similar comments were addressed in the FSEIS.

Two USEPA comments were addressed in TVA's September 9, 2010, ROD. TVA reported that further examination of U.S. Census data related to neighboring block groups for minority and impoverished populations confirmed the environmental justice finding in the Bellefonte FSEIS that these groups are not expected to be disproportionately affected by completion and operation of a nuclear plant at the Bellefonte site. In response to USEPA comments about the adequacy of housing supply for the construction workforce, TVA committed to undertake an in-depth housing study prior to making a final decision about plant construction. The purpose of the study was to better identify the extent and location of housing impacts and to develop a strategy for addressing those concerns.

An in-depth housing survey was completed in October 2010. The survey identified 16 communities and four counties near the Bellefonte site that were most likely to be considered for relocation by the in-migrating construction and operational workforce, based on commute distances/times, school district options, transportation routes, and available permanent, temporary, and planned housing. The survey assumed that half of the workforce would in-migrate, and half would be existing residents within the region. The study concluded that, overall, demands on housing by the in-migrating construction and operational workforce are anticipated to be met for the first two years of the construction schedule and met entirely for the operational workforce. Based on interviews with city and county officials, local realtors, and area developers, the study indicated that the start of construction and the increase of housing demand are expected to spur both temporary and permanent housing development. TVA will monitor the availability of construction workforce housing. If housing development does not occur as expected, TVA will consider mitigation measures such as transportation assistance for commuting employees living farther than 30 miles away, remote parking areas with shuttles to the Bellefonte site, development of a temporary RV park and campground located on TVA-owned property or a collaborative development off site to alleviate community pressures from construction-related housing demand. The 2010 Housing Survey report is available upon request.

Environmental Consequences

The Bellefonte FSEIS updated the analyses presented in earlier environmental reviews of the natural, human, and radiological environment that could be affected by completion and operation of a nuclear unit at the Bellefonte site, including discussion of nuclear plant safety, plant security, and decommissioning. Environmental consequences of completing and operating Bellefonte Unit 1 and associated transmission system improvements, as well as alternatives to them, are summarized in the September 2010 Bellefonte ROD.

During the course of the SEIS preparation, TVA consulted with the U.S. Fish and Wildlife Service (USFWS) and the State Historic Preservation Officers (SHPOs) in Alabama, Tennessee, and Georgia, as well as interested tribes. On January 21, 2010, USFWS concluded that only the pink mucket (Lampsilis abrupta) mussel could be affected by the proposed nuclear plant construction and operation. In a biological opinion issued April 15, 2010, USFWS issued an incidental take permit for pink mucket under either Action Alternative. TVA committed to providing $30,000 to be used for research and recovery of the pink mucket should either of the Action Alternatives be selected.

In a September 9, 2009, letter, the Alabama SHPO concurred with TVA's finding of no effects on historic properties associated with completion and operation of a nuclear unit on the Bellefonte site. TVA completed a memorandum of agreement (MOA) with the Georgia SHPO on April 28, 2010, and with the Alabama SHPO on June 1, 2010, for the treatment of potential impacts to historic properties from transmission system improvements on existing rights-of-way. Instead of entering into an MOA, in a May 20, 2010, letter the Tennessee SHPO requested TVA follow procedures to conduct a phased identification and evaluation of historic properties pursuant to 36 CFR 900.4(b)(2).

Following the seismic and tsunami-induced events at the Fukushima (Japan) Daiichi Nuclear Plant on March 11, 2011, TVA performed a review to determine whether that event presented new information about the likelihood or consequences of severe accidents associated with the Bellefonte Unit 1 design. The review indicated that the likelihood or consequences of an event similar to the one in Japan were already adequately evaluated in the probabilistic safety assessment and risk calculations presented in the FSEIS. Bellefonte Unit 1 is designed to withstand all types of extreme weather, flood, and seismic events. Design-basis improvements to withstand terrorist attacks addressed in recent years will increase the plant's ability to mitigate severe accidents. Based upon TVA's post-Fukushima review, TVA concludes that the severe accident analysis in the FSEIS adequately bounds the potential for environmental and public health consequences.

In addition to the site-specific review of the Bellefonte design, TVA has developed a fleet-wide action plan designed to strengthen its nuclear facilities to withstand combinations of large-scale disasters, both man-made and natural. This plan tracks closely with the July 12, 2011, NRC report Recommendations for Enhancing Reactor Safety in the 21st Century: The Near-Term Task Force Review of Insights from the Fukushima Dai-ichi Accident. TVA's Fukushima action plan includes short-term, intermediate, and long-term actions designed to address lessons learned from the accident in Japan. A primary focus is looking at additional backups to existing emergency power systems, diesel generators, and battery banks to increase the ability to weather an extended loss of outside power at any of TVA's nuclear plants. This means the purchase and staging of more diesel and gasoline-fueled electric generators. Plans include purchasing additional pumps and hoses that can draw water from the Tennessee River, providing another emergency alternative to maintain water levels in reactors and used fuel pools. The benefits and feasibility of more rapid transfer of spent fuel to dry cask storage are being examined. Emergency plans and control room simulators have been revamped to include scenarios for events that occur simultaneously, like the earthquake and tsunami in Japan. Implementing TVA's Fukushima action plan will further improve the safety of TVA's operating plants.

TVA will continue to meet all regulatory requirements and nuclear power industry recommendations that result from the Fukushima event at its six operating nuclear units, Watts Bar Unit 2, which is currently under construction, and at Bellefonte Unit 1. As new information becomes available and new insights are developed from the Fukushima event, TVA will consider what further steps might be taken to ensure the safe operation of its nuclear fleet.

Decision

On August 20, 2010, the TVA Board approved a budget allocation of $248 million in support of continued engineering, design, and regulatory-basis development, as well as the procurement of long-lead components such as steam generators for Unit 1. This helped to preserve Bellefonte Unit 1 as a feasible energy resource option. After considering the analyses done for TVA's 2011 IRP, the IRP FEIS, the results of engineering and financial studies conducted since August 2010, and analyses in response to the Fukushima Daiichi accident, the TVA Board approved the completion and operation of Bellefonte Unit 1 on August 18, 2011. The Board directed TVA staff to not resume construction activities at Bellefonte Unit 1 until fuel is initially loaded at TVA Watts Bar Unit 2. Subject to this condition, plant construction can commence 120 days after TVA submits a written notice to the Nuclear Regulatory Commission (NRC) containing certain information regarding plant status, schedules, and other descriptions as set forth in the NRC Policy Statement on Deferred Plants (52 FR 38077 [October 14, 1987]).

Environmentally Preferred Alternative

As discussed in the September 2010 Bellefonte ROD, TVA has concluded that the environmental impacts of the two Action Alternatives would be very similar and that neither Action Alternative would be environmentally preferable to the other. However, either Action Alternative likely would be environmentally preferable to the No Action Alternative, assuming TVA would build new base load generation elsewhere.

Mitigation Measures

The following measures will be used to minimize environmental impacts from completion and operation of Bellefonte Unit 1:

• Avoid disturbance of archaeological site 1JA111.

• Take appropriate steps to monitor and mitigate potential housing, traffic, and school impacts in Jackson County, Alabama, during plant construction and mitigate such impacts if needed. Mitigation could include measures such as transportation assistance for commuting employees living outside a 30-mile commuting distance, remote parking areas with shuttles to the Bellefonte site, development of a temporary on-site RV park and campground or a collaborative development off site.

• In accordance with the permit issued by USFWS on April 15, 2010, provide $30,000 for research and recovery of the pink mucket.

The following mitigation measures would be implemented to respond to the potential impacts of the proposed transmission system improvements. Prior to implementing any ground-disturbing work, TVA would:

• Survey areas to be disturbed where endangered or threatened plant species have been previously reported to verify if the rare species are still present in the transmission line right-of-way. The locations of any listed species would be identified on construction plans and avoided during construction activities.

• Survey wetlands in the areas that may be disturbed as a result of upgrading/reenergizing activities. Mitigation measures that avoid, minimize, or compensate for impacts to wetlands would be implemented to ensure no significant impacts or loss of wetland function occurs.

• In consultation with the SHPO (for the state in which the property is located) and other consulting parties, develop and evaluate alternatives or modifications that would avoid, minimize, or mitigate any adverse effects to historic properties, if any.

With the implementation of the above measures, TVA has determined that adverse environmental impacts of completing and operating Bellefonte Unit 1 would be substantially reduced.

Dated: August 24, 2011.
Ashok S. Bhatnagar,
Senior Vice President, Nuclear Generation Development and Construction.

[FR Doc. 2011-22079 Filed 8-29-11; 8:45 am]

BILLING CODE 8120-08-P